ENVIRONMENTAL PROTECTION AGENCY

40 CFR Part 52

[EPA-R07-OAR-2012-0293; FRL-9781-4]

Approval and Promulgation of Implementation Plans; State of Kansas; Idle Reduction of Heavy-Duty Diesel Vehicles and Reduction of Nitrogen Oxides (NOX) Emissions for the Kansas City Ozone Maintenance Area

AGENCY: Environmental Protection Agency (EPA).

ACTION: Proposed rule.

SUMMARY: EPA is proposing to approve the State Implementation Plan (SIP) submitted by the State of Kansas on July 27, 2010, to add two new rules which implement restrictions on the idling of heavy duty diesel vehicles and reduce nitrogen oxide (NOX) emissions at stationary sources in the Kansas portion of the Kansas City Maintenance Area for ozone. EPA is approving this revision because the standards and requirements set by the rules will strengthen the Kansas SIP. EPA's approval of this SIP revision is being done in accordance with the requirements of the Clean Air Act (CAA).

DATES: Written comments should be received on or before March 22, 2013.

ADDRESSES: Submit your comments, identified by Docket ID No. EPA-R07-OAR-2012-0293, by mail to Lachala Kemp, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Lachala Kemp, Air Planning and Development Branch, U.S. Environmental Protection Agency Region 7, 11201 Renner Boulevard, Lenexa, Kansas 66219, at (913) 551-7214 or by email at kemp.lachala@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed rule. EPA will not institute a second comment period on this action. Any parties interested in commenting on this action should do so at this time. Please note that if EPA receives adverse comment on part of this rule and if that part can be severed from the remainder of the rule, EPA may adopt as final those parts of the rule that are not the subject of an adverse comment.

For additional information, see the direct final rule which is located in the rules section of this Federal Register.

Dated: February 6, 2013.
Karl Brooks,
Regional Administrator, Region 7.

[FR Doc. 2013-03757 Filed 2-19-13; 8:45 am]

BILLING CODE 6560-50-P